INTERNATIONAL TRADE COMMISSION

[Inv. No. 337-TA-689]

In the Matter of: Certain Dual Access Locks and Products Containing Same; Notice of Investigation

AGENCY: U.S. International Trade Commission.

ACTION: Institution of investigation pursuant to 19 U.S.C. 1337.

SUMMARY: Notice is hereby given that a complaint was filed with the U.S. International Trade Commission on September 15, 2009, under section 337 of the Tariff Act of 1930, as amended, 19 U.S.C. 1337, on behalf of Safe Skies, LLC of Brooklyn, New York and David Tropp of Brooklyn, New York. An amended complaint was filed on October 5, 2009. The amended complaint alleges violations of section 337 based upon the importation into the United States, the sale for importation, and the sale within the United States after importation of certain dual access locks and products containing same by reason of infringement of certain claims of U.S. Patent Nos. 7,021,537 and 7,036,728. The amended complaint further alleges that an industry in the United States exists as required by subsection (a)(2) of section 337.

The complainants request that the Commission institute an investigation and, after the investigation, issue an exclusion order and a cease and desist order.

ADDRESSES: The amended complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS) at http://edis.usitc.gov.

FOR FURTHER INFORMATION CONTACT: Rett Snotherly, Office of Unfair Import Investigations, U.S. International Trade Commission, telephone (202) 205-2599.

Authority: The authority for institution of this investigation is contained in section 337 of the Tariff Act of 1930, as amended, and in section 210.10 of the Commission's Rules of Practice and Procedure, 19 CFR 210.10 (2009).

Scope of Investigation: Having considered the amended complaint, the U.S. International Trade Commission, on October 14, 2009, ordered that—

(1) Pursuant to subsection (b) of section 337 of the Tariff Act of 1930, as amended, an investigation be instituted to determine whether there is a violation of subsection (a)(1)(B) of section 337 in the importation into the United States, the sale for importation, or the sale within the United States after importation of certain dual access locks or products containing same that infringe one or more of claims 1-21 of U.S. Patent No. 7,021,537 and claims 1-20 of U.S. Patent No. 7,036,728, and whether an industry in the United States exists as required by subsection (a)(2) of section 337;

(2) For the purpose of the investigation so instituted, the following are hereby named as parties upon which this notice of investigation shall be served:

(a) The complainants are—

Safe Skies, LLC, 165 Norfolk Street, Brooklyn, NY 11235

David Tropp, 165 Norfolk Street, Brooklyn, NY 11235

(b) The respondents are the following entities alleged to be in violation of section 337, and are the parties upon which the complaint is to be served:

C&C Luggage Manufacturing Co., Ltd., No. 1, Crown Road, The Second Ind. Park, Sanxiang, Zhongshan, Guangdong, China

Formosa Tai Rank Industrial Corp., Room 1102, 11th Floor, 328 Sung Chiang Road, Taipei, Taiwan, 104, Hangzhou Gema Suitcases & Bags Co., Ltd

M16-1-5 Hangshou Economic and Technologic Development Zone, Hangzhou, Zhejiang, China

La Pearl Luggage and Leather Goods Co., Ltd., No. 441, Xihuan Road, Jiangmen Guangdong, 529000 China

Hinomoto Jomae, Ltd. 1-19-19 Nishigahara, Kita-Ku, Tokyo, Japan

Sinox Company, Ltd. 3F, No. 2, Lane 93, Chien-1 Road, Chung-Ho City, Taipei Hsien, 235, Taiwan

Yi Feng Manufacturing, Co., Ltd. Zhangyang Zone, Shangmutou Town, Dongguan City, China 523637

Jin Tay Industries Co., Ltd. 486 Section 3, Ming Chih Road, Taishan Hsiang, Taipei Hsien, Taiwan

FULLYEAR-Brother Enterprise, Co., Ltd., 41-21, Guan Tso Street, Fu Shing, Changhwa Taiwan, 506

Zhuhai SkyGood Tech. Industrial Corp., Ltd., 4/F., 3rd Building, 30 Nanwan Road (north), Nanping, Zhuhai, Guangdong, China

Ningbo Xianfeng Art & Craft Co., Ltd., Room B-303, Zhongshanyinzuo, No. 579, Zhongshan East Road, Ningbo, China

Paloma Enterprises Co., Ltd., 3F, No. 1320, Chung-Cheng Road, Taoyun City, Taiwan

Tekraft Industrial Co., Ltd., Room 5E10, No. 5 Hsin Yi Road, Sec. 5, Taipei, Taiwan

Hangzhou Travelsky Co., Ltd., 1-6-G Guodu Development Building, 182 Zhaohui Road, Hangshou, China

The Sun Lock Company Ltd., Room 5, Block C, 16/F, Hang Wai, Industrial Center, 6 Kin Tai Street, Tuen Mun, New Territories, Hong Kong

Alloy Metal Manufactory, Ltd., Flat H, 3/F, On Ho Industrial Building, 17-19 Shing Wan Road, Tai Wai, Shatin, New Territories, Hong Kong

Cometform, Ltd., Unit 24 Irving Way, Garrick Industrial Estate, Hendon, London NW9 6AQ, England

Design Go Ltd., Unit 1, Mill Hill Industrial Estate, Flower Lane, London NW7 2HU, England

Franzen International, S. Franzen Sohne GmbH, Fuerbachstrasse 8, D-42719 Solingen, Germany

M-Power Lock Manufactory, Unit 2702, Modern Warehouse, 6 Shing Yip Street, Kwun Tong, Kowloon, Hong Kong

(c) The Commission investigative attorney, party to this investigation, is Rett Snotherly, Esq., Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against a respondent.

Issued: October 14, 2009.
By order of the Commission.
Marilyn R. Abbott,
Secretary to the Commission.

[FR Doc. E9-25245 Filed 10-20-09; 8:45 am]

BILLING CODE 7020-02-P